DEPARTMENT OF COMMERCE

Foreign-Trade Zones Board

[B-27-2023]

Foreign-Trade Zone 255—Washington County, Maryland, State; Application for Reorganization and Expansion Under Alternative Site Framework

An application has been submitted to the Foreign-Trade Zones (FTZ) Board by the Board of County Commissioners of Washington County, grantee of FTZ 255, requesting authority to reorganize and expand the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on April 13, 2023.

FTZ 255 was approved by the FTZ Board on July 3, 2002 (Board Order 1232, 67 FR 48877-48878, July 26, 2002).

The current zone includes the following sites: Site 1 (276 acres)—Lakeside Corporate Center, 200 Castle Drive, Cascade; Site 2 (443 acres)—Hagerstown Regional Airport Complex/Bowman Airpark, 18434 Showalter Road, Hagerstown; Site 4 (438 acres)—Hunter's Green/Hopewell Valley Industrial Complex, Hopewell Road and Halfway Boulevard, Hagerstown; Site 6 (172 acres)—Interstate Industrial Park, 10228 Governor Lane Boulevard, Williamsport; and, Site 7 (129 acres)—Mellott Enterprises Industrial Complex, Resley Street, north of Maryland Avenue, Hancock.

The grantee's proposed service area under the ASF would be Washington County, Maryland, as described in the application. If approved, the grantee would be able to serve sites throughout the service area based on companies' needs for FTZ designation. The application indicates that the proposed service area is adjacent to the Baltimore U.S. Customs and Border Protection port of entry.

The applicant is requesting authority to reorganize its existing zone to include all of the existing sites as “magnet” sites. The ASF allows for the possible exemption of one magnet site from the “sunset” time limits that generally apply to sites under the ASF, and the applicant proposes that Site 2 be so exempted. The applicant is also requesting approval of the following subzone: Proposed Subzone 255A (94.7 acres)—Conair LLC, 10440 Downsville Pike, Hagerstown.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is June 20, 2023. Rebuttal comments in response to material submitted during the foregoing period may be submitted during the subsequent 15-day period to July 3, 2023.

A copy of the application will be available for public inspection in the “Online FTZ Information Section” section of the FTZ Board's website, which is accessible via www.trade.gov/ftz. For further information, contact Christopher Kemp at Christopher.Kemp@trade.gov.

Dated: April 13, 2023.
Elizabeth Whiteman,
Acting Executive Secretary.

[FR Doc. 2023-08231 Filed 4-18-23; 8:45 am]

BILLING CODE 3510-DS-P